DEPARTMENT OF ENERGY

Federal Energy Regulatory Commission

[Project No. 15035-000]

Premium Energy Holdings, LLC; Notice of Preliminary Permit Application Accepted for Filing and Soliciting Comments, Motions To Intervene, and Competing Applications

On June 9, 2020, Premium Energy Holdings LLC, filed an application for a preliminary permit, pursuant to section 4(f) of the Federal Power Act (FPA), proposing to study the feasibility of the Isabella Pumped Storage Project (Isabella Project or project), a closed-loop pumped storage project to be located in Kern County, California. The sole purpose of a preliminary permit, if issued, is to grant the permit holder priority to file a license application during the permit term. A preliminary permit does not authorize the permit holder to perform any land-disturbing activities or otherwise enter upon lands or waters owned by others without the owners' express permission.

The proposed project would consist of the following: (1) An upper reservoir created by a new dam at one of three alternative locations in the Southern Sierra Nevada Mountains with a capacity between 19,073 and 34,459 acre-feet, at an elevation between 4,500 and 5,960 feet above mean sea level; (2) a tunnel system of steel penstocks and concrete pressurized tunnels to connect the upper and lower reservoirs to the powerhouse; (3) pump-turbine units in an underground powerhouse with generation capacity of 2,000 megawatts located at one of the three alternative locations; (4) a cavern of the transformers chamber adjacent to the powerhouse; (5) the existing Isabella Reservoir, to be used as the lower reservoir, with a storage capacity of 568,000 acre-feet, at an elevation of 2,580 feet above mean sea level; (6) electrical switchyards and interconnecting transmission lines from the powerhouse to the nearest major transmission interconnection at one of the six alternative locations; and (7) appurtenant facilities. The estimated average annual generation of the Isabella Project would be 6,900 gigawatt-hours.

Applicant Contact: Victor M. Rojas, Premium Energy Holdings, 355 South Lemon Avenue, Suite A, Walnut, California 91789; phone: (909) 595-5314.

FERC Contact: Khatoon Melick, (202) 502-8433, khatoon.melick@ferc.gov.

Deadline for filing comments, motions to intervene, competing applications (without notices of intent), or notices of intent to file competing applications: 60 Days from the issuance of this notice. Competing applications and notices of intent must meet the requirements of 18 CFR 4.36.

The Commission strongly encourages electronic filing. Please file comments, motions to intervene, notices of intent, and competing applications using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-15035-000.

More information about this project, including a copy of the application, can be viewed or printed on the “eLibrary” link of Commission's website at http://www.ferc.gov/docs-filing/elibrary.asp. Enter the docket number (P-15035) in the docket number field to access the document. For assistance, contact FERC Online Support.

Dated: November 9, 2020.
Nathaniel J. Davis, Sr.,
Deputy Secretary.

[FR Doc. 2020-25208 Filed 11-13-20; 8:45 am]

BILLING CODE 6717-01-P